DEPARTMENT OF ENERGY

Federal Energy Regulatory Commission

[Project No. 2503-068]

Duke Power Company, a Division of Duke Energy; Notice of Availability of Environmental Assessment

February 18, 2004.

In accordance with the National Environmental Policy Act of 1969, as amended, and the Federal Energy Regulatory Commission's (Commission) regulations (18 CFR part 380), Commission staff have prepared an environmental assessment (EA) that analyzes the environmental impacts of allowing Duke Power Company, licensee for the Keowee-Jocassee Hydroelectric Project, to authorize the Cliffs at Keowee Vineyards (the Cliffs) use of project lands and waters. Specifically, the Cliffs purposes to excavate about 3,300 cubic yards of sediment material in an area about 785 feet in length, 49 feet in width, and 2.3 feet in depth for the purpose of providing safe access to the previously approved cluster docks serving the subdivision. The EA contains staff's analysis of the potential environmental impacts of the proposal and concludes that approval of the proposed action would not constitute a major Federal action significantly affecting the quality of the human environment.

A copy of the EA is attached to a February 5, 2004, Commission Order titled “Order Approving Non-Project Use of Project Lands and Waters,” which is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E4-364 Filed 2-23-04; 8:45 am]

BILLING CODE 6717-01-P